NUCLEAR REGULATORY COMMISSION

Peer Review Committee for Source Term Modeling; Notice of Meeting

The Peer Review Committee for Source Term Modeling will hold a closed meeting on January 7, 8, 9, 2004 at Sandia National Laboratories (SNL), Albuquerque, NM.

The entire meeting will be closed to public attendance to protect information classified as national security information pursuant to 5 U.S.C. 552b(c)(1).

The agenda for the subject meeting shall be as follows:

Wednesday, Jan 7, Thursday, Jan 8, and Friday, Jan 9, 2004—8:30 a.m. until the conclusion of business:

A sub-panel of the Committee will gather information on the behavior of spent nuclear fuel under adverse service conditions. The information gathered will enable the Committee to provide advice and recommendations to aid SNL in development of guidance documents on source terms that will assist the NRC in evaluations of the impact of specific terrorist activities targeted at a range of spent fuel storage casks and radioactive material (RAM) transport packages.

For further information regarding the time of the meeting and possible changes to the starting and ending times and the duration of the meeting, contact: Dr. Andrew L. Bates, telephone: (301) 415-1963 or Dr. Charles G. Interrante, telephone: (301) 415-3967 between 7:30 a.m. and 4:15 p.m. (ET).

Dated: December 18, 2003.
Andrew L. Bates,
Advisory Committee Management Officer.

[FR Doc. 03-31688 Filed 12-23-03; 8:45 am]

BILLING CODE 7590-01-P